DEPARTMENT OF HOUSING AND URBAN DEVELOPMENT

[Docket No. FR-4650-N-17]

Notice of Submission of Proposed Information Collection to OMB; Emergency Comment Request, Electronic Services Assessment Internet Survey; Notice of Proposed Information Collection for Public Comment

AGENCY: Office of Chief Information Officer, HUD.

ACTION: Notice.

SUMMARY: The proposed information collection requirement described below has been submitted to the Office of Management and Budget (OMB) for emergency review and approval, as required by the Paperwork Reduction Act. The Department is soliciting public comments on the subject proposal.

DATES: Comments Due Date: March 13, 2001.

ADDRESSES: Interested persons are invited to submit comments regarding this proposal. Comments must be received within seven (7) days from the date of this Notice. Comments should refer to the proposal by name/or OMB approval number) and should be sent to: Joseph F. Lackey, Jr., HUD Desk Officer, Office of Management and Budget, New Executive Office Building, Washington, DC 20503.

FOR FURTHER INFORMATION CONTACT: Wayne Eddins, Reports Management Officer,Q, Department of Housing and Urban Development, 451 Seventh Street, SW., Washington, DC 20410; e-mail Wayne_Eddins@HUD.gov; telephone (202) 708-2374. This is not a toll-free number. Copies of available documents submitted to OMB may be obtained from Mr. Eddins.

SUPPLEMENTARY INFORMATION: This Notice informs the public that the Department of Housing and Urban Development (HUD) has submitted to OMB, for emergency processing, an information collection package with respect to a survey of HUD's customers about their access to the Internet. The Department has developed an Electronic Government Strategic Plan that outlines how the Department will use the Internet and eCommerce to better provide services to citizens. Also, the Department has developed its schedule to implement the Government Paperwork Elimination Act (GPEA) by 2003. To best develop electronic solutions for customers and effectively automate collection information items from the public HUD will use this survey to ask citizens about their usage and access to the Internet. It will be used to support the implementation of the Electronic Government Strategic Plan and GPEA in three ways.

1. Create a numeric baseline for the use of the Internet and Electronic Government services by HUD's customers.

2. Assist in establishing performance measures and provides targets for improvements of HUD's Electronic Government services and web-based applications.

3. Support Electronic Government priorities and assist in allocation of funds for GPEA compliance and Electronic Government solutions.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Electronic Services Assessment Internet Survey.

OMB Control Number: Pending.

Agency Form Numbers: None.

Members of Affected Public: Individuals or households.

Estimation of the total numbers of hours needed to prepare the information collection including number of respondents, frequency of responses, and hours of response: 1000 respondents; one-twelfth of an hour per response; one response per respondent; and 166.7 total hours of burden.

Authority: The Paperwork Reduction Act of 1995, 44 U.S.C. Chapter 35, as amended.

Dated: February 27, 2001.
Wayne Eddins,
Departmental Reports Management Officer, Office of the Chief Information Officer.

[FR Doc. 01-5309 Filed 3-5-01; 8:45 am]

BILLING CODE 4210-01-M